OFFICE OF PERSONNEL MANAGEMENT

Reinstatement of a Previously Approved Information Collection: General Request for Investigative Information (INV 40), Investigative Request for Employment Data and Supervisor Information (INV 41), Investigative Request for Personal Information (INV 42), Investigative Request for Educational Registrar and Dean of Students Record Data (INV 43), and Investigative Request for Law Enforcement Data (INV 44)

AGENCY: Office of Personnel Management.

ACTION: 60-Day notice and request for comments.

SUMMARY: In accordance with the Paperwork Reduction Act of 1995, the National Background Investigations Bureau (NBIB), Office of Personnel Management (OPM) proposes to request the Office of Management and Budget (OMB) to reinstate a previously-approved information collection, General Request for Investigative Information (INV 40), Investigative Request for Employment Data and Supervisor Information (INV 41), Investigative Request for Personal Information (INV 42), Investigative Request for Educational Registrar and Dean of Students Record Data (INV 43), and Investigative Request for Law Enforcement Data (INV 44).

DATES: Comments are encouraged and will be accepted until March 26, 2018. This process is conducted in accordance with 5 CFR 1320.8(d)(1).

ADDRESSES: Interested persons are invited to submit written comments on the proposed information collection to the National Background Investigations Bureau, U.S. Office of Personnel Management, 1900 E Street NW, Washington, DC 20415, Attention: Donna McLeod or sent by email to FISFormsComments@opm.gov.

FOR FURTHER INFORMATION CONTACT: A copy of this ICR, with applicable supporting documentation, may be obtained by contacting the National Background Investigations Bureau, U.S. Office of Personnel Management, 1900 E Street NW, Washington, DC 20415, Attention: Donna McLeod; or sent by email to FISFormsComments@opm.gov or phone at 202-606-2139.

SUPPLEMENTARY INFORMATION: OPM is soliciting comments for this collection as required by the Paperwork Reduction Act of 1995, 44 U.S.C. 3506(c)(2). The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The INV 40, 41, 42, 43, and 44 are used to conduct the “written inquiries” portion of the investigation, to include investigations for suitability or fitness for Civil Service, nonappropriated fund, or contract employment pursuant to standards issued under Civil Service Rule V, E.O. 13488, as amended, E.O. 13764, and 5 CFR part 731; investigations for employment in a sensitive national security position or for eligibility for access to classified information pursuant to standards issued under E.O. 12968, as amended, E.O. 13764, and 5 CFR part 1400; and investigations for identity credentials for long-term physical and logical access to Federally-controlled facilities and information systems, pursuant to standards issued under E.O. 13764. The INV forms 40 and 44, in particular, facilitate OPM's access to criminal history record information under 5 U.S.C. 9101.

The content of the INV forms is also designed to meet notice requirements for personnel investigations specified by 5 CFR 736.102(c). These notice requirements apply to any “investigation . . . to determine the suitability, eligibility, or qualifications of individuals for Federal employment, for work on Federal contracts, or for access to classified information or restricted areas.”

None of the forms are used for any purpose other than a personnel background investigation, as described above. The completed forms are maintained by OPM subject to the protections of the Privacy Act of 1974, as amended.

Procedurally, the subject of a personnel background investigation discloses the identity of relevant sources, such as supervisors, coworkers, neighbors, friends, current or former spouses, instructors, relatives, or schools attended, on the standard form (SF) 85, Questionnaire for Non-Sensitive Positions; the SF 85P, Questionnaire for Public Trust Positions; or the SF 86, Questionnaire for National Security Positions. The INV forms are distributed to the provided source contacts identified on the standard form questionnaire through an automated mailing operation.

The INV 40 is used to collect records from a Federal or State record repository or a credit bureau. The INV 44 is used to collect law enforcement data from a criminal justice agency. The INV 41, 42, and 43 are sent to employment references, associates, and educational institutions. The forms disclose that the source's contact information was provided by the subject to assist in completing a background investigation to help determine the subject's eligibility for employment or security clearance, and request that the source complete the form to help in this determination. Generally, the subject of the investigation will identify these employment references, associates, and schools on his or her SF 85, SF 85P, or SF 86 questionnaire.

OPM proposes the following modifications to the INV 40, INV 41, INV 42, INV 43 and INV 44. On all of the forms, an explanation was added to address the need to have the forms completed and returned as soon as possible. The Privacy Act Information section changed from, “The information you provide, including your identity, will be disclosed to the person being investigated and other federal agencies, at this person's request” to “The information you provide, including your identity, will be furnished to the agency requesting the investigation, other agencies as warranted, and to the person investigated upon his or her specific request. Routine uses for disclosure of investigative records are published in the Federal Register at 81 FR 70194-95.” The INV 41 and INV 43, Instruction, “Your name has been provided by the person” was amended to “Your contact information was provided by the person.” The INV 41, 42, 43, and 44 were amended to refer to the purpose of the investigations as “eligibility for employment or security clearance” for uniformity. The INV 41 and INV 42 Privacy Act Information, “Providing additional information on this form will void your request for confidentiality” was removed. Specific instructions for requesting confidentiality are provided in block 6 on the INV 41 and block 8 on the INV 42. Changes were made to OPM's form processing options found on the INV 40, INV 41, INV 43, and INV 44. Modifications were made to clarify the use of the “additional information” section on the INV 41, INV 42, INV 43, and INV 44.

In an effort to align the collection of information obtained through written inquiries and the collection of information disclosed by the subject of the background investigation on the standard form questionnaires, the following changes were made. INV 41 (#2) (e) “Fired for unfavorable employment or conduct” was amended to “Fired”; (f) “Resigned after informed of possible firing” was amended to “Quit after being told they would be fired”; (g) “Left employment by mutual agreement due to specific problems” was amended to “Left by mutual agreement following charges or allegations of misconduct”; and (h) “left by mutual agreement following notice of unsatisfactory performance.” was added. INV 41 (#2) and INV 42 (#7) “abuse of drugs” was amended to “abuse/illegal use of drugs.”

Analysis

Agency: NBIB, Office of Personnel Management.

Title: General Request for Investigative Information (INV 40), Investigative Request for Employment Data and Supervisor Information (INV 41), Investigative Request for Personal Information (INV 42), Investigative Request for Educational Registrar and Dean of Students Record Data (INV 43), and Investigative Request for Law Enforcement Data (INV 44).

OMB Number: 3206-0165.

Affected Public: Forms are not used for any purpose other than a personnel background investigation. The completed forms are maintained by OPM and are subject to the protections of the Privacy Act of 1974, as amended.

Procedurally, the subject of a personnel background investigation discloses the identity of relevant sources, such as supervisors, coworkers, neighbors, friends, current or former spouses, instructors, relatives, or schools attended, on the standard form (SF) 85, Questionnaire for Non-Sensitive Positions; the SF 85P, Questionnaire for Public Trust Positions; or the SF 86, Questionnaire for National Security Positions. After OPM receives a completed SF 85, SF 85P, or SF 86, the INV forms are distributed to the provided source contacts through an automated mailing operation.

The INV 40 is used to collect records from a Federal or State record repository or a credit bureau. The INV 44 is used to collect law enforcement data from a criminal justice agency. The INV 41, 42, and 43 are sent to employment references, associates, and educational institutions attended. The forms disclose that the source's name was provided by the subject to assist in completing a background investigation to help determine the subject's eligibility for employment or security clearance, and request that the source complete the form to help in this determination. Generally, the subject of the investigation will identify these employment references, associates, and schools on his or her SF 85, SF 85P, or SF 86 questionnaire. If information is omitted on the questionnaire, however, the information may be provided in a follow-up contact between the subject and an investigator.

Number of Respondents: 5,682,744 (58,071 (INV 40); 3,358,486 (INV 41); 56,090 (INV 42); 855,051 (INV 43); 1,355,046 (INV 44))

Estimated Time per Respondent: 5 minutes per form (INV 40, INV 41, INV 42, INV 43, INV 44)

Total Burden Hours: 473,562 (4,839 (INV 40); 279,874 (INV 41); 4,674 (INV 42); 71,254 (INV 43); 112,921 (INV 44))

Office of Personnel Management.
Kathleen M. McGettigan,
Acting Director.

[FR Doc. 2018-01258 Filed 1-23-18; 8:45 am]

BILLING CODE 6325-53-P